DEPARTMENT OF HEALTH AND HUMAN SERVICES

Food and Drug Administration

[Docket No. FDA-2015-N-0001]

Preparation for International Cooperation on Cosmetics Regulation

AGENCY: Food and Drug Administration, HHS.

ACTION: Notice of meeting.

The Food and Drug Administration (FDA or we) is announcing a public meeting entitled “International Cooperation on Cosmetics Regulation (ICCR)—Preparation for ICCR-9 Meeting.” The purpose of the meeting is to invite public input on various topics pertaining to the regulation of cosmetics. We may use this input to help us prepare for the ICCR-9 meeting that will be held November 4-6, 2015, in Brussels, Belgium.

Date and Time: The public meeting will be held on September 10, 2015, from 2 p.m. to 4 p.m.

Location: This meeting will be held at the Food and Drug Administration, Center for Food Safety and Applied Nutrition, 5100 Paint Branch Pkwy., Wiley Auditorium (first floor), College Park, MD 20740.

Contact Person: Maria Rossana (Rosemary) Cook, Office of Cosmetics and Colors, Food and Drug Administration, 4300 River Rd., College Park, MD 20740, email: maria.cook@fda.hhs.gov, or FAX: 301-436-2975.

Registration and Requests for Oral Presentations: Send registration information (including your name, title, firm name, address, telephone number, fax number, and email address), written material, and requests to make an oral presentation, to the contact person by August 27, 2015.

If you need special accommodations due to a disability, please contact Maria Rossana (Rosemary) Cook by September 3, 2015.

SUPPLEMENTARY INFORMATION: You may present proposals for future ICCR agenda items, data, information, or views, orally or in writing, on issues pending at the public meeting. Time allotted for oral presentations may be limited to 10 minutes or less for each presenter. If you wish to make an oral presentation, you should notify the contact person by August 27, 2015, and submit a brief statement of the general nature of the evidence or arguments that you wish to present, your name, address, telephone number, fax number, and email address, and indicate the approximate amount of time you need to make your presentation.

Transcripts: As soon as a transcript is available, it will be accessible at http://www.regulations.gov. It may also be viewed at the Division of Dockets Management (HFA-305), Food and Drug Administration, 5630 Fishers Lane, rm. 1061, Rockville, MD 20850. A transcript will also be available in either hardcopy or on CD-ROM, after submission of a Freedom of Information request. Written requests are to be sent to the Division of Freedom of Information, (ELEM-1029), Food and Drug Administration, 12420 Parklawn Dr., Element Bldg., Rockville, MD 20857.

The Purpose of the Multilateral Framework on the ICCR: The purpose of the multilateral framework on the ICCR is to pave the way for the removal of regulatory obstacles to international trade while maintaining global consumer protection.

ICCR is a voluntary international group of cosmetics regulatory authorities from the United States, Japan, the European Union, Canada, and Brazil. These regulatory authority members will enter into constructive dialogue with their relevant cosmetics industry trade associations and public advocacy groups. Currently, the ICCR members are: Health Canada; the European Commission Directorate-General for Internal Market, Industry, Entrepreneurship, and Subject Matter Experts; the Ministry of Health, Labor, and Welfare of Japan; the Brazilian Health Surveillance Agency; and FDA. All decisions made by consensus will be compatible with the laws, policies, rules, regulations, and directives of the respective administrations and governments. Members will implement and/or promote actions or documents within their own jurisdictions and seek convergence of regulatory policies and practices. Successful implementation will need input from stakeholders.

Agenda: We will make the agenda for the public meeting available on the Internet at http://www.fda.gov/Cosmetics/InternationalActivities/ICCR/default.htm. Depending on the number of requests for oral presentations, we intend to have an agenda available by September 3, 2015. We may use the information that you provide to us during the public meeting to help us prepare for the November 4-6, 2015, ICCR-9 meeting.

Dated: July 9, 2015.
Leslie Kux,
Associate Commissioner for Policy.

[FR Doc. 2015-17248 Filed 7-14-15; 8:45 am]

BILLING CODE 4164-01-P